NUCLEAR REGULATORY COMMISSION

[Docket No. 70-3103; NRC-2024-0176]

Louisiana Energy Services, LLC, dba Urenco USA; National Enrichment Facility; Environmental Assessment and Finding of No Significant Impact

AGENCY: Nuclear Regulatory Commission.

ACTION: Notice; issuance.

SUMMARY: The U.S. Nuclear Regulatory Commission (NRC) is considering an amendment of Special Nuclear Materials (SNM) License No. SNM-2010, issued to Louisiana Energy Services, LLC, dba Urenco USA (UUSA) for the operation of the Urenco USA uranium enrichment facility in Eunice, New Mexico. The amended license would increase the allowed enrichment of uranium-235 (U-235) from the current limit of 5.5 weight percent U-235 (referred to as low-enriched uranium or LEU) to less than 10 weight percent U-235 (referred to as LEU+). For this proposed action, the NRC staff is issuing an environmental assessment (EA) and finding of no significant impact (FONSI).

DATES: The EA and FONSI referenced in this document are available on December 10, 2024.

ADDRESSES: Please refer to Docket ID NRC-2024-0176 when contacting the NRC about the availability of information regarding this document. You may obtain publicly available information related to this document using any of the following methods:

• Federal Rulemaking Website: Go to https://www.regulations.gov and search for Docket ID NRC-2024-0176. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Christine Pineda, Office of Nuclear Material Safety and Safeguards, U.S. Nuclear Regulatory Commission, Washington, DC 20555-0001; telephone: 301-415-6789; email: Christine.Pineda@nrc.gov.

SUPPLEMENTARY INFORMATION:

I. Introduction

The NRC is considering an amendment of Urenco USA's license SNM-2010 for the operation of the Urenco USA uranium enrichment facility in Eunice, New Mexico. If approved, the amendment would increase the allowed enrichment of uranium-235 (U-235) from the current limit of 5.5 weight percent U-235 (referred to as low-enriched uranium or LEU) to less than 10 weight percent U-235 (referred to as LEU+). As required in section 51.21 of title 10 of the Code of Federal Regulations (10 CFR), “Criteria for and identification of licensing and regulatory actions requiring environmental assessments,” the NRC developed an EA for the proposed license amendment. Based on the results of the EA summarized in this notice, the NRC has determined not to prepare an environmental impact statement (EIS) for the amendment and is issuing a FONSI.

Urenco USA also submitted a separate request for an amendment to approve the use of the enrichment facility's recycling systems to process (or clean) components exposed to LEU+ to enable their reuse. The NRC accepted that application on November 26, 2024, and is conducting a technical review. The NRC will publish a separate environmental assessment for that proposed licensing action.

II. Summary of Environmental Assessment

Description of the Proposed Action

The proposed NRC action is to authorize Urenco USA to produce, store, and handle enriched uranium hexafluoride (UF6) at an enrichment of less than 10 weight percent U-235 at the UUSA enrichment facility. This would be an increase from the currently authorized limit of 5.5 weight percent U-235. Under the proposed action, UUSA would use the existing facilities and equipment. There would be no construction of new facilities or modifications to existing buildings. The amendment, if granted, would not allow the shipment or transportation of LEU+ product offsite.

The proposed action is limited only to the processes, systems and components needed to produce, handle and store LEU+ at the UUSA site. The facility's gaseous effluent vent system (GEVS) would be used to collect potentially contaminated gaseous effluents in areas where LEU+ would be produced, handled and stored. The GEVS treats effluents through a filter system before releasing them to the atmosphere through a continuously-monitored vent stack. Material and components exposed to LEU+ that are removed from production process systems authorized for LEU+ would be segregated and stored in analyzed, inside storage locations.

The proposed action is in accordance with the licensee's application dated November 30, 2023, as supplemented by letter dated August 1, 2024.

Need for the Proposed Action

The proposed amendment, if approved, would enable Urenco USA to produce enriched U-235 to support industry pursuit of the use of LEU+ in applications such as accident tolerant fuel and extended fuel cycle fuels. Domestic nuclear commercial reactor operators and designers are pursuing advancements in fuel and enrichment alongside the development of reactor designs that include increasing U-235 enrichment.

Environmental Impacts of the Proposed Action

The NRC staff assessed the potential environmental impacts from the proposed enrichment increase on land use; historic and cultural resources; visual and scenic resources; climatology, meteorology and air quality; geology and soils; water resources; ecological resources; socioeconomics; noise; traffic and transportation; public and occupational health and safety; and waste management. The NRC staff determined that the proposed action would not affect most resource areas and would not have significant impacts on air quality, transportation, public and occupational health and safety, and waste management. Impacts would remain bounded by the impacts assessed in the NRC's 2015 EA for the expansion of the facility. Occupational dose estimates associated with the proposed action would continue to be as low as reasonably achievable and fall within the limits identified in 10 CFR 20.1201. Approval of the proposed action is not expected to result in measurable radiation exposure to a member of the public. The annual release of uranium would be less than 260 microcuries per year, well below the conservative estimate in the NRC's 2015 EA of 29.7 million becquerel (800 microcuries) per year that the NRC determined would result in a small fraction of the NRC public dose limit of 1 millisievert per year (100 millirem per year) in 10 CFR 20.1301(a)(1).

Environmental Impacts of the Alternatives to the Proposed Action

The alternative considered in this EA is the no-action alternative. Under the no-action alternative, the NRC would deny Urenco USA's request to allow increased enrichment to less than 10 weight percent U-235, and the limit would remain at 5.5 weight percent. The potential environmental impacts of denying the request would be unchanged from the current facility impacts and the impacts as assessed in the NRC's 2015 EA for the expansion of the facility. Under this alternative, the nuclear industry would likely continue to pursue higher enriched UF6 for power reactors, and the increased enrichment would most likely be produced at another facility, resulting in similar environmental impacts.

Agencies and Persons Consulted

In accordance with NRC policy, on November 5, 2024, the NRC staff provided a draft of the EA to the State of New Mexico for review. The NRC received no comments from the State.

Under the National Historic Preservation Act (NHPA), the NRC's approval of the proposed increase in the U-235 enrichment limit would constitute a Federal undertaking. In reviewing UUSA's application, the NRC staff concluded the proposed action to increase enrichment of enriched UF6 is not a type of activity that has the potential to cause effects on any historic properties that may be present. Therefore, following 36 CFR 800.3(a)(1), the NRC has no further obligations under Section 106 of the NHPA.

Similarly, under the Endangered Species Act the staff determined that even if endangered or candidate species are present in the vicinity of the Urenco USA facility, the proposed increase in the enrichment limit would not affect such species or their habitats. The proposed action would not result in construction or land disturbance and operations would continue inside existing buildings. Therefore, the NRC has determined that no further consultation is required under Section 7 of the Endangered Species Act.

III. Finding of No Significant Impact

The NRC staff reviewed the proposed action in accordance with the requirements of 10 CFR part 51. The NRC staff concludes that approval of Urenco USA's proposed action to produce, store, and handle enriched UF6 at enrichment of less than 10 weight percent U-235 at the enrichment facility would not significantly affect the quality of the human environment. As described in section 3 of the EA, approval of the proposed action will not result in changes to land use; no construction or soil disturbance will take place; no visible changes to the facility or the viewshed will occur; and no staffing changes are anticipated that would affect socioeconomic indicators. Urenco USA would store LEU+-exposed, reusable materials and cascade components inside a designated, approved storage area until further disposition. The NRC does not expect significant radiological or non-radiological impacts from approval of the proposed action, and impacts would remain bounded by the impacts assessed in the NRC's 2015 EA for the expansion of the facility. Occupational dose estimates associated with the proposed action would continue to be as low as reasonably achievable and fall within the limits identified in 10 CFR 20.1201. Approval of the proposed action is not expected to result in measurable radiation exposure to a member of the public. Therefore, the NRC staff has determined that, pursuant to 10 CFR 51.31, preparation of an environmental impact statement is not required for this proposed action, and pursuant to 10 CFR 51.32, a finding of no significant impact is appropriate. In accordance with 10 CFR 51.32(a)(4), this FONSI incorporates the EA summarized in this notice by reference.

IV. Availability of Documents

The documents identified in the following table are available to interested persons through ADAMS, as indicated.

Document description | ADAMS accession No.
Environmental Assessment for Proposed License Amendment to Allow Urenco USA to Enrich Uranium to Less than 10 Weight Percent U-235, dated December 2024 | ML24331A260
UUSA License Amendment Request for Changes to License Conditions and Raise Enrichment Limit to Less Than 10 Weight Percent for LEU+ Production Systems (LAR-23-02), dated November 30, 2023 | ML23334A122
LAR-23-02 Enclosure 3—Safety Analysis Report Markups | ML23334A125
LAR-23-02 Enclosure 8—Environmental Information | ML23334A130
UUSA Responses to NRC Request for Additional Information, Enclosure 2: UUSA Responses to Human Factors Engineering and Environmental RAIs, dated August 1, 2024 | ML24214A302
NRC Environmental Assessment for the Proposed Louisiana Energy Services, Urenco USA Uranium Enrichment Facility Capacity Expansion in Lea County, New Mexico, dated March 2015 | ML15072A016
NRC Email to New Mexico Environment Department re: Request for State Review of Draft EA, dated November 5, 2024 | ML24331A236
UUSA License Amendment Request to Raise Enrichment Limit to the Licensed Limit for LEU+ Recycling and Support Systems (LAR-24-01), dated August 29, 2024 | ML24242A197
LAR-24-01 Enclosure 3—Safety Analysis Report Markups | ML24242A200
LAR-24-01 Enclosure 6—Environmental Information | ML24242A203
NRC Letter to UUSA re: Acceptance of LAR-24-01 for Technical Review, dated November 26, 2024 | ML24327A210

Dated: December 4, 2024.
For the Nuclear Regulatory Commission.
Robert Sun,
Chief, Environmental Project Management, Branch 2, Division of Rulemaking, Environmental, and Financial Support, Office of Nuclear Material Safety, and Safeguards.

[FR Doc. 2024-28929 Filed 12-9-24; 8:45 am]

BILLING CODE 7590-01-P